DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The IACC Services Subcommittee will be holding a conference call on Friday, January 7, 2011. The subcommittee will discuss a set of draft recommendations to the Secretary of Health and Human Services on services and supports for people with Autism Spectrum Disorder. This conference call will be open to the public.

Name of Committee: Interagency Autism Coordinating Committee (IACC).

Type of meeting: Services Subcommittee.

Date: January 7, 2011.

Time: 10 a.m. to 12 p.m. Eastern Time.

Agenda: The subcommittee will discuss a set of draft recommendations to the Secretary of Health and Human Services on services and supports for people with ASD.

Place: No in-person meeting; conference call only.

Conference Call Access: Dial: 888-456-0356. Access code: 1427016.

Contact Person: Ms. Lina Perez, Office of Autism Research Coordination, National Institute of Mental Health, NIH, 6001 Executive Boulevard, NSC, 8185a, Rockville, MD 20852. Phone: 301-443-6040. E-mail: IACCPublicInquiries@mail.nih.gov.

Please Note: This conference call will be open to the public through a conference call in number and access code. Members of the public who participate using the conference call phone number will be able to listen to the discussion but will not be heard. If you experience any technical problems with the conference call, please e-mail IACCTechSupport@acclaroresearch.com or call the IACC Technical Support Help Line at 443-680-0098.

Individuals who participate in person or by using these electronic services and who need special assistance, such as captioning of the conference call or other reasonable accommodations, should submit a request to the Contact Person listed on this notice at least 7 days prior to the meeting.

This notice is being published less than 15 days prior to the meeting due to the urgent need to discuss a set of recommendations to the Secretary of Health and Human Services on support and services so that these recommendations may be reviewed and approved by the full IACC committee at the meeting scheduled for January 18, 2011.

Meeting schedule subject to change.

Information about the IACC and a registration link for this meeting are available on the Web site: http://www.iacc.hhs.gov.

Dated: December 21, 2010.
Jennifer S. Spaeth,
Director, Office of Federal Advisory Committee Policy.

[FR Doc. 2010-32752 Filed 12-28-10; 8:45 am]

BILLING CODE 4140-01-P